DEPARTMENT OF ENERGY

Federal Energy Regulatory Commission

[Docket No. EL00-79-000]

Mid-Tex G&T Electric Cooperative, Inc., et al., Complainants. v. West Texas Utilities Company, Respondent; Notice of Complaint

May 22, 2000.

Take notice that on May 19, 2000, Mid-Tex G&T Electric Cooperative, Inc. (“Mid-Tex”) and its member cooperatives filed a Complaint and Request for Refund of Fuel Adjustment Clause Charges against West Texas Utilities Company (“WTU”). Mid-Tex requests that the Commission issue an order finding that (A) the inclusion of emergency or replacement power costs in fuel cost adjustments violates the terms of the TWU wholesale rate schedules applicable to the Complainants and the provisions of the Commission's fuel clause regulations, (B) Directing WTU to (i) recalculate the fuel factor for any month where emergency or replacement power costs were included in the fuel adjustment calculation and (ii) refund to the Complainants, with interest, all fuel clause overcharges; and (C) Ordering WTU to cease and desist from including emergency or replacement power costs in its fuel clause calculations in the future and to comply with the requirements of its wholesale rates schedules and the Commission's fuel clause regulations.

Any person desiring to be heard or to protest this filing should file a motion to intervene or protest with the Federal Energy Regulatory Commission, 888 First Street, N.E., Washington, D.C. 20426, in accordance with Rules 211 and 214 of the Commission's Rules of Practice and Procedure (18 CFR 385.211 and 385.214). All such motions or protests must be filed on or before June 8, 2000. Protests will be considered by the Commission in determining the appropriate action to be taken, but will not serve to make protestants parties to the proceeding. Any person wishing to become a party must file a motion to intervene. Copies of this filing are on file with the Commission and are available for public inspection in the Public Reference Room. This filing may also be viewed on the Internet at ­http://www.ferc.fed.us/online/rims.htm (call 202-208-2222) for assistance. Answers to the complaint shall also be due on or before June 8, 2000.

Linwood A. Watson, Jr.,
Acting Secretary.

[FR Doc. 00-13230 Filed 5-25-00; 8:45 am]

BILLING CODE 6717-01-M